FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (Commission) amends its Appliance Labeling Rule (“Rule”) by publishing new ranges of comparability to be used on required labels for heat pump water heaters, and announces that the current ranges of comparability required by the Rule for room air conditioners, storage-type water heaters, gas-fired instantaneous water heaters, furnaces, boilers, and pool heaters will remain in effect until further notice.

EFFECTIVE DATE: November 30, 2000.

FOR FURTHER INFORMATION CONTACT: James Mills, Attorney, Division of Enforcement, Federal Trade Commission, Washington, DC 20580 (202-326-3035); jmills@ftc.gov.

SUPPLEMENTARY INFORMATION: The Rule was issued by the Commission in 1979 (44 FR 66466 (Nov. 19, 1979)) in response to a directive in the Energy Policy and Conservation Act of 1975.¹ The Rule covers eight categories of major household appliances: Refrigerators and refrigerator-freezers, freezers, dishwashers, clothes washers, water heaters (this category includes storage-type water heaters, gas-fired instantaneous water heaters, and heat pump water heaters), room air conditioners, furnaces (this category includes boilers), and central air conditioners (this category includes heat pumps). The Rule also covers pool heaters (59 FR 49556 (Sept. 28, 1994)), and contains requirements that pertain to fluorescent lamp ballasts (54 FR 28031 (July 5, 1989)), certain plumbing products (58 FR 54955 (Oct. 25, 1993)), and certain lighting products (59 FR 25176 (May 13, 1994)).

¹ 42 U.S.C. 6294. The statute also requires the Department of Energy (“DOE”) to develop test procedures that measure how much energy the appliances use, and to determine the representative average cost a consumer pays for the different types of energy available.

The Rule requires manufacturers of all covered appliances and pool heaters to disclose specific energy consumption or efficiency information (derived from the DOE test procedures) at the point of sale in the form of an “EnergyGuide” label and in catalogs. It also requires manufacturers of furnaces, boilers central air conditioners, and heat pumps either to provide fact sheets showing additional cost information, or to be listed in an industry directory showing the cost information for their products. The Rule requires that manufacturers include, on labels and fact sheets, an energy consumption or efficiency figure and a “range of comparability” scale. This scale shows the highest and lowest energy consumption or efficiencies for all comparable appliance models so consumers can compare the energy consumption or efficiency of other models (perhaps competing brands) similar to the labeled model. The Rule requires that manufacturers also include, on labels for some products, a secondary energy usage disclosure in the form of an estimated annual operating cost based on a specified DOE national average cost for the fuel the appliance uses.

Section 305.8(b) of the Rule requires manufacturers, after filing an initial report, to report annually (by specified dates for each product type) ² the estimated annual energy consumption or energy efficiency ratings for the appliances derived from tests performed pursuant to the DOE test procedures. Because manufacturers regularly add new models to their lines, improve existing models, and drop others, the data base from which the ranges of comparability are calculated is constantly changing. Under Section 305.10 of the Rule, to keep the required information on labels consistent with these changes, the Commission publishes new ranges (but not more often than annually) if an analysis of the new information indicates that the upper or lower limits of the ranges have changed by more than 15%. Otherwise, the Commission publishes a statement that the prior ranges remain in effect for the next year.

² Reports for room air conditioners, water heaters (storage-type, gas-fired instantaneous, and heat pump-type) furnaces, boilers, and pool heaters are due May 1.

The annual submissions of data for room air conditioners, water heaters (including storage-type, gas-fired instantaneous, and heat pump water heaters), furnaces, boilers, and pool heaters have been made and have been analyzed by the Commission.

The data submissions for heat pump water heaters show significant changes in both the high and low ends of the ranges of comparability for these products. Therefore, the Commission is publishing new ranges for use in required disclosures (including labeling) for heat pump water heaters beginning November 30, 2000. In addition, beginning November 30, 2000, manufacturers of heat pump water heaters must base the disclosures of estimated annual operating cost required at the bottom of EnergyGuides for these products on the 2000 Representative Average Unit Cost of Energy for electricity (8.03 cents per kiloWatt-hour) that was published by DOE on February 7, 2000 (65 FR 5860), and by the Commission on April 17, 2000 (65 FR 20352).

The ranges of comparability for room air conditioners, storage-type water heaters, instantaneous water heaters, furnaces, boilers, and pool heaters have not changed by more than 15% from the current ranges for these products. Therefore, the current ranges for these products will remain in effect until further notice.³

³ The current ranges for storage-type water heaters, furnaces, and boilers were published on September 23, 1994 (59 FR 48796). The current ranges for pool heaters and room air conditioners (originally) were published on August 21, 1995 (60 FR 43367). A corrected version of the ranges for room air conditioners was published on November 13, 1995 (60 FR 56945, at 56949). The current ranges for gas-fired instantaneous water heaters were published on December 20, 1999 (64 FR 71019).

This means that manufacturers of storage-type water heaters, furnaces, and boilers must continue to use the ranges that were published on September 23, 1994, and that manufacturers of storage-type water heaters must continue to base the disclosures of estimated annual operating cost required at the bottom of EnergyGuides for these products on the 1994 Representative Average Unit Costs of Energy for electricity (8.41 cents per kiloWatt-hour), natural gas (60.4 cents per therm), propane (98 cents per gallon), and/or heating oil ($1.05 per gallon) that were published by DOE on December 29, 1993 (58 FR 68901), and by the Commission on February 8, 1994 (59 FR 5699).

Manufacturers of pool heaters must continue to use the ranges that were published on August 21, 1995. Manufacturers of room air conditioners must continue to use the corrected ranges for room air conditioners that were published on November 13, 1995. Manufacturers of pool heaters and room air conditioners must continue to base the disclosures of estimated annual operating required at the bottom of EnergyGuides for these products on the 1995 Representative Average Unit Costs of Energy for electricity (8.67 cents per kiloWatt-hour), natural gas (63 cents per therm), propane (98.5 cents per gallon), and/or heating oil ($1.008 per gallon) that were published by DOE on January 5, 1995 (60 FR 1773), and by the Commission on February 17, 1995 (60 FR 9295).

Manufacturers of gas-fired instantaneous water heaters must continue to use the ranges of comparability that were published on December 20, 1999. They must continue to base the disclosures of estimated annual operating cost required at the bottom of EnergyGuides for these products on the 1999 Representative Average Unit Cost for natural gas (68.8 cents per therm) and propane (77 cents per gallon) that were published by DOE on January 5, 1999 (64 FR 487) and by the Commission on February 17, 1999 (64 FR 7783).

For up-to-date tables showing current range and cost information for all covered appliances, see the Commission's Appliance Labeling Rule web page at www.ftc.gov/appliances.

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

List of Subjects in 16 CFR Part 305

Advertising, Energy conservation, Household appliances, Labeling, Reporting and recordkeeping requirements.

Accordingly, 16 CFR Part 305 is amended as follows:

PART 305—[AMENDED]

1. The authority citation for Part 305 continues to read as follows:

Authority: 42 U.S.C. 6294.

2. Appendix D5 to Part 305 is revised to read as follows:

Appendix D5 to Part 305—Water Heaters-Heat Pump

Range Information
Capacity: First hour rating | Range of estimated annual energy consumption (KWh/Yr.): Low | Range of estimated annual energy consumption (KWh/Yr.): High
Less than 21 | (*) | (*)
21 to 24 | (*) | (*)
25 to 29 | (*) | (*)
30 to 34 | (*) | (*)
35 to 40 | (*) | (*)
41 to 47 | 1996 | 1996
48 to 55 | (*) | (*)
56 to 64 | 2311 | 2311
65 to 74 | (*) | (*)
75 to 86 | (*) | (*)
87 to 99 | (*) | (*)
100 to 114 | (*) | (*)
115 to 131 | (*) | (*)
Over 131 | (*) | (*)
* No data submitted.

By direction of the Commission.
Donald S. Clark,
Secretary.

[FR Doc. 00-22530 Filed 8-31-00; 8:45 am]

BILLING CODE 6750-01-M